DEPARTMENT OF THE INTERIOR

Bureau of Land Management

[BLM_OR_FRN_MO4500173143]

Notice of Availability of the Draft Hult Reservoir and Dam Safety Environmental Impact Statement in Lane County, Oregon

AGENCY: Bureau of Land Management, Interior.

ACTION: Notice of availability.

SUMMARY: In compliance with the National Environmental Policy Act of 1969, as amended (NEPA), and the Federal Land Policy and Management Act of 1976, as amended (FLPMA), the Bureau of Land Management (BLM) announces the availability of the Hult Reservoir and Dam Safety Draft Environmental Impact Statement (EIS).

DATES: To afford the BLM the opportunity to consider comments in the Final EIS, please ensure that the BLM receives your comments within 45 days following the date the Environmental Protection Agency (EPA) publishes its Notice of Availability (NOA) of the Draft EIS in the Federal Register. The EPA usually publishes its NOAs on Fridays. The BLM will hold at least one public meeting in Blachly, Horton, or Triangle Lake; the date(s) and location(s) of public meetings will be announced at least 15 days in advance on the BLM National NEPA Register at: https://eplanning.blm.gov/eplanning-ui/project/99598/510. Interested parties can also register for email notifications of the scoping meetings by submitting an email request to: BLM_OR_NO_SIU_Hult_Dam_EIS@blm.gov.

ADDRESSES: The Draft EIS is available for review on the BLM ePlanning project website at https://eplanning.blm.gov/eplanning-ui/project/99598/510.

Written comments related to the Hult Reservoir and Dam Safety Draft EIS may be submitted by any of the following methods:

• ePlanning website: https://eplanning.blm.gov/eplanning-ui/project/99598/510.

• Email: BLM_OR_NO_SIU_Hult_Dam_EIS@blm.gov.

• Mail: Bureau of Land Management, Northwest Oregon District, ATTN: Hult Reservoir and Dam Safety EIS, 3106 Pierce Parkway, Springfield, OR 97477.

Documents pertinent to this proposal may be examined online at https://eplanning.blm.gov/eplanning-ui/project/99598/510 and at the Siuslaw Field Office, 3106 Pierce Pkwy., Springfield, OR 97477.

FOR FURTHER INFORMATION CONTACT: Dianne Olson, Public Involvement Lead, at (971) 213-4970 or BLM_OR_NO_SIU_Hult_Dam_EIS@blm.gov. Individuals in the United States who are deaf, deafblind, hard of hearing, or have a speech disability may dial 711 (TTY, TDD, or TeleBraille) to access telecommunications relay services for contacting Ms. Olson. Individuals outside the United States should use the relay services offered within their country to make international calls to the point-of-contact in the United States.

SUPPLEMENTARY INFORMATION: The Hult Reservoir and Hult Pond Dam are located near the community of Horton, Oregon. The reservoir is fed by Lake Creek and smaller tributaries. The earthen embankment dam was built in the 1930s or 1940s to create a log holding pond for the Hult Lumber Company sawmill. Today, the 54-acre reservoir and surrounding area are primarily used as a recreation destination. The dam serves no other water retention purposes and provides no flood protection. The average lifespan for an earthen embankment dam is 50 years, which the Hult Dam has exceeded by over 3 decades. The BLM believes that the dam it is at the end of its lifecycle.

When the BLM took ownership of the reservoir and dam in a 1994 land exchange, the dam had been poorly maintained, but a 1990 Bureau of Reclamation inspection found it was in no immediate danger of failing. Since then, the BLM has made improvements to the dam, including repairs, reinforcement, and installation of monitoring equipment. BLM staff continuously monitor the reservoir level and adjust the dam outlet during winter weather events to avoid overtopping.

In 2017, the U.S. Army Corps of Engineers (USACE) inspected the dam and found multiple failure points due to its age and condition. The 2018 USACE report based on this inspection described that flooding resulting from dam failure could impact 70 to 130 people downstream and cause damage to Oregon Highway 36, as well as potential loss of life.

The project's purpose and need is to decommission the current Hult Dam structure to reduce the potential for failure of the aging structure and associated loss of life and critical services, and to be fiscally responsible to the public in managing the costs associated with the dam.

The Draft EIS includes a No Action Alternative (Alternative 1) analyzing continued management and standard maintenance of Hult Dam under the current conditions. The BLM analyzed three action alternatives in detail:

Alternative 2 (Remove the Existing Dam and Build a New Dam to Maintain Hult Reservoir) responds to public comments received during the EIS scoping period. This alternative would remove all existing dam infrastructure and build a new dam that meets necessary safety standards and a new bridge. The poorly functioning fish ladder would be replaced with a roughened channel to allow fish passage. Construction would take place over 3 years, and dam construction would happen during summer months when water levels would be lowest.

This alternative includes the creation of a developed camp host site and cultural design features including signage with information about the area's original indigenous inhabitants and the lumber mill previously located near the reservoir.

Alternative 3 (Remove Hult Reservoir; Add Little Log Pond) would permanently remove existing dam infrastructure and drain Hult Reservoir, allowing a natural stream course to reestablish through the former reservoir footprint. A new bridge would span the stream channel near the current dam, replacing the existing bridge and road across the dam.

A 5-acre pond for recreational use would be created downstream by building a smaller dam across Lake Creek. This pond could be used for fishing, swimming, and non-motorized boating. A roughened channel south of the pond would be created to allow fish passage. This work would take place over approximately 2 years, during summer months, when water levels would be lowest.

Project design features would include:

• Riparian and wetland restoration in the former reservoir area, with the creation of habitat for fish, western pond turtles, and beavers;

• Improved recreation amenities, including a new day-use area near the pond, a developed camp host site and a group campsite, and a multi-use trail adjacent to the pond and restoration area; and

• Cultural design features, including signage with information about the area's original indigenous inhabitants and the lumber mill previously located at the site.

Alternative 4 (Remove Hult Reservoir) is the preferred alternative and would permanently remove existing dam infrastructure. Hult Reservoir would be drained, and a natural stream channel would be reestablished through the former reservoir footprint. A new bridge would span the stream channel near the current dam, replacing the existing bridge and road across the dam. This work would take place during summer months, when water levels would be lowest.

Project design features are similar to those for Alternative 3, including:

• Riparian and wetland restoration in the former reservoir area, with the creation of habitat for fish, western pond turtles, and beavers;

• Improved recreation amenities, including a new day-use area, a developed camp host site and a group campsite, and a multi-use trail adjacent to the restoration area; and

• Cultural design features including signage with information about the area's original indigenous inhabitants and the lumber mill previously located at the site.

Nine other alternatives were considered but not analyzed in detail because they did not meet the EIS purpose and need or were infeasible.

The public scoping period for the project was held in January 2022. Issues identified by the public included changes to recreation access and opportunities such as fishing, swimming, and boating; effects to wildlife, plants, ecosystems, fish and fish passage; effects to the local economy and community; availability of water for fire suppression; impacts on water quality, availability, and rights; and impacts on local Tribes.

Formal cooperating agencies on this EIS include:

• Confederated Tribes of Coos, Lower Umpqua, and Siuslaw Indians of Oregon

• Confederated Tribes of Grand Ronde

• Oregon Department of Fish and Wildlife

• Oregon Department of Forestry—Lane County

• U.S. Army Corps of Engineers—Regulatory Branch

With all formal cooperating agencies, the BLM has signed a memorandum of understanding identifying the roles and responsibilities of the BLM and the cooperating agency in the planning process.

The BLM will continue to consult with Indian Tribal Nations on a government-to-government basis in accordance with Executive Order 13175, BLM MS 1780, and other Departmental policies. Tribal concerns, including impacts on Indian trust assets and potential impacts to cultural resources, will be given due consideration. The Confederated Tribes of Umpqua, Coos, and Lower Siuslaw Indians and Confederated Tribes of Grand Ronde are cooperators on the project, and the BLM has been receiving their input during the EIS process.

The BLM will be holding at least one public meeting in Blachly, Horton, or Triangle Lake; the date(s) and location(s) of public meetings will be announced at least 15 days in advance on the BLM National NEPA Register at: https://eplanning.blm.gov/eplanning-Sui/project/99598/510. Interested parties can also register for email notifications of the scoping meetings by submitting an email request to: BLM_OR_NO_SIU_Hult_Dam_EIS@blm.gov.

During the 45-day public comment period, written comments on the draft EIS may be submitted by mail, email, or on the ePlanning website (see Address section above). Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10)

Amanda Hoffman,
Acting District Manager, Northwest Oregon.

[FR Doc. 2023-23140 Filed 10-19-23; 8:45 am]

BILLING CODE 4331-24-P